DEPARTMENT OF ENERGY

Federal Energy Regulatory Commission

Notice of Attendance at Nepool Meetings

February 26, 2009.

The Federal Energy Regulatory Commission hereby gives notice that members of the Commission and Commission staff may attend the following upcoming NEPOOL meetings:

• NEPOOL Participants Committee;

• March 6 (Manchester, VT);

• April 3 (Boston, MA);

• May 1 (Location TBD);

• June 5 (Location TBD);

• June 23 (Location TBD);

• NEPOOL Markets Committee Meeting;

• March 10-11 (Marlborough, MA);

• March 25-26 (Location TBD);

• April 6-7 (Westborough, MA);

• May 12-13 (Marlborough, MA);

• June 9-10 (Marlborough, MA).

For additional meeting information, see http://www.iso-ne.com/committees/comm_wkgrps/index.html.

The discussions at each of the meetings described above may address matters at issue in the following proceedings:

Docket No. ER07-397, ISO New England Inc. and the New England Power Pool Participants Committee

Docket No. ER07-476, ISO New England Inc. and the New England Power Pool Participants Committee

Docket No. ER08-41, ISO New England Inc. and the New England Power Pool Participants Committee

Docket No. ER08-54, ISO New England Inc.

Docket No. ER08-633, ISO New England Inc.

Docket No. ER08-697, ISO New England Inc. and the New England Power Pool Participants Committee

Docket No. ER08-1209, ISO New England Inc. and the New England Power Pool Participants Committee

Docket No. ER08-1328, New England Participating Transmission Owners Participants Committee

Docket No. OA08-58, ISO New England Inc., et al.

Docket No. EL09-3, Ashburnham Municipal Light Plant, et al. v. Berkshire Power Company, LLC, and ISO New England Inc.

Docket No. EL09-8, Lavand & Lodge, LLC v. ISO New England, Inc.

Docket No. ER09-197, ISO New England Inc.

Docket No. ER09-291, ISO New England Inc.

Docket No. ER09-467, ISO New England Inc.

Docket No. ER09-584, Bangor Hydro-Electric Company

Docket No. ER09-640, ISO New England Inc. and the New England Power Pool Participants Committee

Docket No. ER09-716, ISO New England Inc.

For more information, contact Pat Rooney, Office of Energy Markets Regulation, Federal Energy Regulatory Commission at (202) 502-6205 or patrick.rooney@ferc.gov.

Kimberly D. Bose,
Secretary.

[FR Doc. E9-4714 Filed 3-4-09; 8:45 am]

BILLING CODE 6717-01-P